DEPARTMENT OF LABOR

[Agency Docket Number DOL-2023-0008]

Request for Comments for Dominican Republic-Central America-United States Free Trade Agreement (“CAFTA-DR”) Report

AGENCY: The Bureau of International Labor Affairs, United States Department of Labor.

ACTION: Notice; request for information and invitation to comment.

SUMMARY: This notice is a request for comments from the public to assist the Secretary of Labor in preparing a report on labor capacity-building efforts under Chapter 16 (“the Labor Chapter”) and Annex 16.5 of the Dominican Republic-Central America-United States Free Trade Agreement (“CAFTA-DR”). Comments are also welcomed on efforts made by the CAFTA-DR countries to implement the labor obligations under the Labor Chapter and the recommendations contained in a paper entitled “The Labor Dimension in Central America and the Dominican Republic—Building on Progress: Strengthening Compliance and Enhancing Capacity” (the “White Paper”). This report is required under the Dominican Republic-Central America-United States Free Trade Agreement Implementation Act (CAFTA-DR Implementation Act). The reporting function and the responsibility for soliciting public comments required under this Act were assigned to the Secretary of Labor in consultation with the United States Trade Representative (USTR). The upcoming report will consolidate reporting periods to cover February 29, 2020, through October 31, 2023. As this is the final iteration of this report, DOL is also accepting comments on the implementation of labor obligations in all six countries under the Labor Chapter of CAFTA-DR since the White Paper was initially published in April 2005.

DATES: Written comments may be provided in English or Spanish and are due no later than 5 p.m. (ET) November 16, 2023.

ADDRESSES: Submit written comments with the subject line `CAFTA-DR Labor Report' to Sarah Casson at the Division of Monitoring and Enforcement, Office of Trade and Labor Affairs, Bureau of International Labor Affairs, DOL by email to ILAB-Outreach@DOL.gov.

508 Compliance: Pursuant to section 508 of the Rehabilitation Act of 1973 (29 U.S.C. 794d), as amended. Section 508 became enforceable on June 21, 2001, and the Revised 508 standards issued by the United States Access Board (36 CFR part 1194), January 2018 require that Information and Communication Technology (ICT) procured, developed, maintained, and used by Federal departments and agencies is accessible to and usable by Federal employees and members of the public including people with disabilities. All documents received in electronic format must be accessible using assistive technologies such as a screen reader, e.g., Job Aid with Speech (JAWS), NonVisual Desktop Access (NVDA), ZoomText, to name a few. The product should also be navigable using other means such as a keyboard or voice commands. Accessible document formats are either Microsoft Word or equivalent and Portable Document Format with OCR.

The Department of Labor requests that your submissions through the portal comply with our DOL Policies as well as the 508 Standards as referenced above.

FOR FURTHER INFORMATION CONTACT: Sarah Casson, Advisor, Office of Trade and Labor Affairs, Bureau of International Labor Affairs, U.S. Department of Labor, 200 Constitution Avenue NW, Room S-5006, Washington, DC 20210. Email: ILAB-Outreach@DOL.gov, Telephone: 202-693-2960.

SUPPLEMENTARY INFORMATION:

1. Background Information

During the legislative approval process for the CAFTA-DR, the Administration and the Congress reached an understanding on the need to support labor capacity-building efforts linked to recommendations identified in the “White Paper” of the Working Group of the Vice Ministers Responsible for Trade and Labor in the countries of Central America and the Dominican Republic. CAFTA-DR-specific trade capacity-building funds were appropriated through fiscal year 2010, and subsequently the Bureau of International Labor Affairs used its own appropriation to support technical assistance projects in CAFTA-DR partner countries through fiscal year 2023. For more information, see the full text of the CAFTA-DR at https://ustr.gov/trade-agreements/free-trade-agreements/cafta-dr-dominican-republic-central-america-fta/final-text and the “White Paper” at http://www.sice.oas.org/labor/white%20paper_e.pdf.

Under section 403(a) of the CAFTA-DR Implementation Act, 19 U.S.C. 4111(a), the President must report biennially to the Congress on the progress made by the CAFTA-DR countries in implementing the labor obligations and the labor capacity-building provisions found in the Labor Chapter and in Annex 16.5, and in implementing the recommendations contained in the “White Paper.” Section 403(a)(4) requires that the President establish a mechanism to solicit public comments on the matters described in section 403(a)(3)(D) of the CAFTA-DR Implementation Act, 19 U.S.C. 4111(a)(4) (listed below in 2).

By Proclamation, the President delegated the reporting function and the responsibility for soliciting public comments under section 403(a) of the CAFTA-DR Implementation Act, 19 U.S.C. 4111(a), to the Secretary of Labor, in consultation with the USTR (Proclamation No. 8272, 73 FR 38,297 (June 30, 2008)). This notice serves to request public comments as required by this section.

2. The Department of Labor Is Seeking Comments on the Following Topics as Required Under Section 403(a)(3)(D) of the CAFTA-DR Implementation Act

a. Capacity-building efforts by the United States government envisaged by Article 16.5 of the CAFTA-DR Labor Chapter and Annex 16.5;

b. Efforts by the United States government to facilitate full implementation of the “White Paper” recommendations and other matters related to the CAFTA-DR Labor Chapter; and

c. Efforts made by the CAFTA-DR countries to comply with Article 16.5 of the Labor Chapter and Annex 16.5 and to fully implement the “White Paper” recommendations, including progress made by the CAFTA-DR countries in affording to workers internationally recognized worker rights through improved capacity.

Authority: 22 U.S.C. 7112(b)(2)(C) & (D) and 19 U.S.C. 2464; Executive Order 13126.

Signed at Washington, DC, this 11th day of October, 2023.
Thea Lee,
Deputy Undersecretary for International Affairs.

[FR Doc. 2023-22899 Filed 10-16-23; 8:45 am]

BILLING CODE 4510-28-P